DEPARTMENT OF LABOR

Employment and Training Administration

[TA-W-55,746B]

Westpoint Stevens, Clemson Finishing Plant, Clemson, SC; Notice of Termination of Investigation

Pursuant to Section 221 of the Trade Act of 1974, as amended, an investigation was initiated on October 7, 2004 in response to a petition filed by a company official on behalf of workers at WestPoint Stevens, Clemson Finishing Plant, Clemson, South Carolina.

The petitioner has requested that the petition be withdrawn. Consequently, the investigation has been terminated.

Signed at Washington, DC this 16th day of November, 2004.
Linda G. Poole,
Certifying Officer, Division of Trade Adjustment Assistance.

[FR Doc. 04-26396 Filed 11-29-04; 8:45 am]

BILLING CODE 4510-30-M